DEPARTMENT OF THE INTERIOR

Bureau of Land Management

[LLUT030000-10-L16100000-PH-241A]

Grand Staircase-Escalante National Monument, Monument Advisory Committee: Call for Nominations

AGENCY: Bureau of Land Management, Interior.

ACTION: Notice of Call for Nominations

SUMMARY: The purpose of this notice is to request public nominations for 15 members of the Grand Staircase-Escalante National Monument, Monument Advisory Committee (GSENM-MAC). The GSENM-MAC provides advice and recommendations to the GSENM on science issues and the achievement of the GSENM Management Plan objectives. GSENM will accept public nominations for 30 days from the date this notice is posted.

DATES: A completed nomination form and accompanying nomination letters must be received at the address listed below no later than September 20, 2010.

ADDRESSES: Grand Staircase-Escalante National Monument Headquarters Office, 190 East Center, Kanab, Utah 84741.

FOR FURTHER INFORMATION CONTACT: Larry Crutchfield, Public Affairs Officer, GSENM Headquarters Office, 190 East Center, Kanab, Utah 84741; phone (435) 644-4310, or e-mail larry_crutchfield@blm.gov.

SUPPLEMENTARY INFORMATION: The Secretary of the Interior established the GSENM-MAC pursuant to section 309 of the Federal Land Policy and Management Act (FLPMA) of 1976 (43 U.S.C. 1739) and in conformity with the Federal Advisory Committee Act (FACA) of 1972 (5 U.S.C. Appendix 2). The 15 appointed members of the GSENM-MAC perform several primary tasks: (1) Review evaluation reports produced by the Management Science Team and make recommendations on protocols and projects to meet overall objectives; (2) Review appropriate research proposals and make recommendations on project necessity and validity; (3) Make recommendations regarding allocation of research funds through review of research and project proposals as well as needs identified through the evaluation process above; and (4) Make recommendations on issues such as protocols for specific projects.

The Secretary appoints persons to the GSENM-MAC who are representatives of the various major citizen interests pertaining to land use planning and management of the lands under the Bureau of Land Management (BLM) in the GSENM.

Each GSENM-MAC member will be a person who, as a result of training and experience, has knowledge or special expertise which qualifies him or her to provide advice from among the categories of interest listed below. The Obama Administration prohibits individuals who are currently federally registered lobbyists to serve on all FACA and non-FACA boards, committees, or councils. As appropriate, certain committee members may be appointed as Special Government Employees. Special Government Employees serve on the committee without compensation, but will be reimbursed for travel and per diem expenses at current rates for government employees, and are subject to financial disclosure requirements in the Ethics in Government Act and 5 CFR 2634. Travel reimbursement is available to all committee members.

This notice, published pursuant to 43 CFR 1784.4-1 and in accordance with the approved management plan for GSENM (February 2000), requests the public to submit nominations to fill 15 vacant positions on the committee. Any individual or organization may nominate one or more persons to serve on the GSENM-MAC. Individuals may nominate themselves for GSENM-MAC membership.

Nomination forms may be obtained from the GSENM Headquarters Office, (see ADDRESSES section above). To make a nomination, submit to the GSENM Headquarters Office a letter of nomination, a completed nomination form, letters of reference from the represented interests or organizations associated with the interest represented by the candidate, and any other information that speaks to the candidate's qualifications.

Eight members will be appointed as follows, one from each of the categories listed below:

• An elected official from Garfield County to represent the interests of county residents;

• An elected official from Kane County to represent the interests of county residents;

• A representative of state government;

• A representative of tribal government;

• An educator to represent the educational community;

• A representative of the environmental community;

• An outfitter and guide operating within the Monument to represent commercial users; and

• A livestock grazing permittee operating within the Monument representing grazing permittees.

Seven members will be appointed as Special Government Employees, one for each of the following areas of expertise:

• Archaeology;

• Botany;

• Geology;

• Paleontology;

• Social science;

• Systems ecology; and

• Wildlife biology.

The specific category the nominee would be representing should be identified in the letter of nomination and in the nomination form. The BLM Utah State Director and Monument Manager will review the nomination forms and letters of reference. The BLM consults with Utah's governor before forwarding its recommendations to the Secretary of the Interior for final decision.

Members will serve without monetary compensation, but will be reimbursed for travel and per diem expenses at current rates for Government employees. The Committee will meet at least twice a year. Additional meetings may be called by the Designated Federal Officer.

Juan Palma,
State Director.

[FR Doc. 2010-20672 Filed 8-19-10; 8:45 am]

BILLING CODE 4310-DQ-P